DEPARTMENT OF VETERANS AFFAIRS

[OMB Control No. 2900-0588]

Agency Information Collection (Special Notice) Activities Under OMB Review; Correction

AGENCY: Office of Acquisition and Logistics, Department of Veterans Affairs.

ACTION: Notice; correction.

SUMMARY: The Department of Veterans Affairs (VA) published an information collection notice in the Federal Register on July 16, 2013 (78 FR 42593), that contained several errors. The notice announced that the Office of Acquisition will submit the collection of information titled “Veterans Affairs Acquisition Regulation (VAAR) Provision 852.211-74, Special Notice (previously 852.210-74), to the Office of Management and Budget (OMB) for review and comment. This document corrects error in the SUPPLEMENTARY INFORMATION section by removing “852.211-74” wherever it appears and adding, in its place “852.211-71”. Also, we have removed “(previously 852.210-74)” from the title.

FOR FURTHER INFORMATION CONTACT: Crystal Rennie, Enterprise Records Service (005R1B), Department of Veterans Affairs, 810 Vermont Avenue NW., Washington, DC 20420, at (202) 632-7492.

Correction

In FR Doc. 2013-17023, published on July 16, 2013, at 78FR42593, make the following corrections.

On page 42593, in the first column, under the SUPPLEMENTARY INFORMATION section, in the Title, remove “852.211-74” and add, in its place, “852.211-71” and remove “(previously 852.210-74)”. Also, in the Abstract, remove “852.211-74” and add, in its place, “852.211-71”.

Crystal Rennie,
VA Clearance Officer, U.S. Department of Veterans Affairs.

[FR Doc. 2013-18278 Filed 7-29-13; 8:45 am]

BILLING CODE 8320-01-P